Title 3—

The President

Proclamation 10429 of August 19, 2022

National Employer Support of the Guard and Reserve Week, 2022

By the President of the United States of America

A Proclamation

Since our Nation's founding, many courageous women and men have taken the oath to defend our Constitution by joining the National Guard and Reserve. During National Employer Support of the Guard and Reserve Week, we show our appreciation for the civilian employers who support and honor our brave service members and their families.

The citizen Soldiers and Airmen of the National Guard, and the Soldiers, Sailors, Airmen, Marines, and Coast Guardsmen of the Reserve, are central to our Armed Forces and the security of our Nation. When activated, they answer the call to serve at a moment's notice, sacrificing their personal and professional lives to protect our safety and freedoms. When they are not in uniform, these patriots from diverse backgrounds balance the competing demands of their families, their civilian careers, and their military responsibilities. They serve as teachers, pastors, engineers, civil servants, medical professionals, and other critical roles in their local communities—strengthening our Nation at home. The Biden family is a National Guard family, and we will always be inspired by all of those who put their country above themselves to defend our way of life, just as my son Major Beau Biden did in the Delaware National Guard.

Civilian employers play a critical role in ensuring a secure life for service members and their families through stable employment, health care, and benefits. Our Nation is forever grateful for the patriotic efforts of employers and businesses who empower our Guard and Reserve service members to thrive. During National Employer Support of the Guard and Reserve Week, we honor our National Guard and Reserve members and their families for their service and sacrifice. We also thank employers for their steadfast support of our Nation's heroes, for their outstanding contributions to our economy, and for the role they play in the success of our military and our Nation.

NOW, THEREFORE, I, JOSEPH R. BIDEN JR., President of the United States of America, by virtue of the authority vested in me by the Constitution and the laws of the United States, do hereby proclaim August 21 through August 27, 2022, as National Employer Support of the Guard and Reserve Week. I call upon the people of the United States, State and local officials, private organizations, and all military commanders to honor employers of National Guard and Reserve members with appropriate ceremonies and activities.

IN WITNESS WHEREOF, I have hereunto set my hand this nineteenth day of August, in the year of our Lord two thousand twenty-two, and of the Independence of the United States of America the two hundred and forty-seventh.

[FR Doc. 2022-18357

Filed 8-23-22; 8:45 am]

Billing code 3395-F2-P